DEPARTMENT OF LABOR

Occupational Safety and Health Administration

Executive Order 13650 Improving Chemical Facility Safety and Security Webinar: Implementation Updates

AGENCY: Occupational Safety and Health Administration (OSHA), Labor.

ACTION: Notice of Listening Session Webinar.

SUMMARY: The Department of Labor (DOL), in coordination with the Department of Homeland Security (DHS) and the Environmental Protection Agency (EPA), is announcing a webinar to update stakeholders on issues pertaining to implementation of Executive Order [E.O.] 13650: Improving Chemical Facility Safety and Security.

DATES: The Webinar will take place on November 10th, from 4:00 p.m. EST to 5:30 p.m. EST.

Registration to Participate: Please click www.cvent.com/d/n4qt96/4w to register. Each participant will be provided with webinar connection instructions by email once their registration has been completed. There is no fee to register.

FOR FURTHER INFORMATION CONTACT: For further information please email: eo.chemical@hq.dhs.gov.

SUPPLEMENTARY INFORMATION:

I. Background

On August 1, 2013, President Obama issued E.O. 13650 to improve chemical facility safety and security. The Working Group charged with implementing the E.O. is co-chaired by DHS, DOL, and EPA, and includes participation from the Departments of Justice, Agriculture, and Transportation, all of whom play a role in Chemical Facility safety and security. During the initial months from the issuance of the E.O., the Working Group met the deliverables outlined in the E.O. as well as conducted a number of in-person listening sessions and webinars to gather input from stakeholders. This work is reflected in a report to the President released June 6, 2014, Executive Order 13650: Actions To Improve Chemical Safety and Security—A Shared Commitment. The report was a milestone, not an end point, and includes a Federal Action Plan for the path forward.

The Working Group has made significant progress on the implementation front of the Federal Action Plan since the release of the report by initiating community planning preparedness measures, increasing Federal coordination, improving data management techniques and technology, revising regulations, issuing guidance and advisory documents, and creating a best practices repository, among other initiatives.

II. Scope of Webinar

The purpose of this webinar is to update stakeholders and the public on progress made on issues related to E.O. 13650 and implementation of items from the Federal Action Plan contained in the report to the President, and to raise awareness of the E.O. 13650 Working Group Web site, located at www.osha.gov/chemicalexecutive order.

III. Public Participation

This webinar will accommodate over 250 participants. As time permits, participants will be able to ask questions on a first come, first serve basis. We will do our best to accommodate all persons who wish to ask questions during the session. We request that participants refrain from making statements, and use this time to ask questions. Should time run out, participants may submit questions, or those wishing to submit statements, may do so via eo.chemical@hq.dhs.gov. For general inquiries regarding the E.O., please contact the Working Group at: eo.chemical@hq.dhs.gov.

Authority and Signature

David Michaels, Ph.D., MPH, Assistant Secretary of Labor for Occupational Safety and Health, authorized the preparation of this notice.

Signed at Washington, DC, on October 17, 2014.
David Michaels,
Assistant Secretary of Labor for Occupational Safety and Health.

[FR Doc. 2014-25142 Filed 10-21-14; 8:45 am]

BILLING CODE 4510-26-P